DEPARTMENT OF DEFENSE

Department of the Air Force

HQ USAF Scientific Advisory Board

AGENCY: Department of the Air Force, DoD.

ACTION: Notice of meeting.

SUMMARY: Pursuant to Pub. L. 92-463, notice is hereby given of the forthcoming Quick look Study Meeting. The purpose of the meeting is to conduct a mid term review of the study. This meeting will be closed to the public.

DATES: March 4-5, 2004.

ADDRESSES: Kirtland AFB NM 87117.

FOR FURTHER INFORMATION CONTACT: Lt Col Nowack, Air Force Scientific Advisory Board Secretariat, 1180 Air Force Pentagon, Rm 5D982, Washington DC 20330-1180, (703) 697-4811.

Pamela D. Fitzgerald,
Air Force Federal Register Liaison Officer.

[FR Doc. 04-4668 Filed 3-2-04; 8:45 am]

BILLING CODE 5001-05-P